DEPARTMENT OF HOMELAND SECURITY

Federal Emergency Management Agency

[Docket No. FEMA-2013-0002; Internal Agency Docket No. FEMA-B-1272]

Proposed Flood Hazard Determinations

AGENCY: Federal Emergency Management Agency; DHS.

ACTION: Notice; correction.

SUMMARY: On November 8, 2012, FEMA published in the Federal Register a proposed flood hazard determination notice that contained an erroneous table. This notice provides corrections to that table, to be used in lieu of the information published at FR 77 67016.

DATES: The comment period is ninety (90) days following the second publication of this correction notice in a newspaper of local circulation in the community.

ADDRESSES: The proposed flood hazard information for the affected communities, as shown on the Preliminary FIRM and, where applicable, FIS report, is available for inspection at the Community Map Repositories at the addresses shown in the table below.

FOR FURTHER INFORMATION CONTACT: Luis Rodriguez, Engineering Management Branch, Federal Insurance and Mitigation Administration, FEMA, 500 C Street SW., Washington, DC 20472, (202) 646-4064 or (email) Luis.Rodriguez3@fema.dhs.gov.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected are listed in the table below. The Preliminary FIRM and where applicable, Preliminary FIS report for each community are available for inspection at both the online location and the respective Community Map Repository address listed in the tables. Additionally, the current effective FIRM and FIS report for each community are accessible online through the FEMA Map Service Center at www.msc.fema.gov for comparison.

Correction

In the proposed flood hazard determination notice published at 77 FR 67016, the table contained inaccurate information as to the location of the Community Map Repository Address for the following communities: the Cities of Brandon and Florence and the Township of Puckett. In this notice, FEMA is publishing a table containing the accurate information, to address these prior errors. The information provided below should be used in lieu of that previously published.

Community | Community Map Repository Address
Rankin County, Mississippi, and Incorporated Areas
Maps Available for Inspection Online at: http://www.geology.deq.ms.gov/floodmaps/Projects/FY2009/?county=Rankin
City of Brandon | City Hall, 1000 Municipal Drive, Brandon, MS 39042.
City of Florence | City Hall, 203 College Street, Florence, MS 39073.
City of Flowood | City Hall, 2101 North Airport Road, Flowood, MS 39232.
City of Jackson | Department of Public Works, 200 South President Street, Jackson, MS 39205.
City of Pearl | City Hall, 2420 Old Brandon Road, Pearl, MS 39208.
City of Richland | City Hall, 380 Scarborough Street, Richland, MS 38218.
Pearl River Valley Water Supply District | Pearl River Valley Water Supply District, 115 Madison Landing Circle, Ridgeland, MS 39157.
Town of Pelahatchie | Town Hall, 705 2nd Street, Pelahatchie, MS 39145.
Township of Puckett | Town Hall, 6449 Highway 18, Puckett, MS 39042.
Unincorporated Areas of Rankin County | Rankin County Courthouse, 211 East Government Street, Brandon, MS 39042.

(Catalog of Federal Domestic Assistance No. 97.022, “Flood Insurance.”)

Roy E. Wright,
Deputy Associate Administrator for Mitigation, Department of Homeland Security, Federal Emergency Management Agency.

[FR Doc. 2013-08044 Filed 4-5-13; 8:45 am]

BILLING CODE 9110-12-P